DEPARTMENT OF COMMERCE

Bureau of the Census

15 CFR Parts 50 and 80

[Docket Number 010828220-3161-02]

RIN 0607-AA24

Amendments to Age Search Procedures

AGENCY: Bureau of the Census, Department of Commerce.

ACTION: Notice of final rulemaking.

SUMMARY: The Bureau of the Census (Census Bureau) is issuing this final rule to clarify and revise the general information requirements pertaining to its Age Search Program. The Census Bureau is making these clarifications to ensure that there are no misunderstandings about the program requirements as a result of ambiguous language. The intent of the Census Bureau in taking these actions is to clarify and revise processing requirements and legal restrictions.

EFFECTIVE DATE: August 18, 2003.

FOR FURTHER INFORMATION CONTACT: Mark Grice, Assistant Division Chief (Processing), National Processing Center, U.S. Census Bureau, 1201 East 10th Street, Room 247, Building 66, Jeffersonville, IN 47132, by telephone on (812) 218-3579, or by fax on (812) 218-3293.

SUPPLEMENTARY INFORMATION:

Background

The age and citizenship searching service is a self-supporting operation of the Census Bureau in accordance with Title 31, United States Code, Section 9701. Under this statute, all expenses incurred in the retrieval of personal information from decennial census records and the preparation of census transcripts are covered by fees paid by individuals who request this service. The Age Search census transcript provides proof of age to qualify individuals for social security or other retirements benefits, proof of citizenship to obtain passports, proof of family relationships for rights of inheritance, or to satisfy other situations where a birth certificate is required but not available. Census records also are considered a valuable tool for genealogical research. The 1910 through 2000 censuses in custody of the Census Bureau are confidential and protected from disclosure by Title 13, United States Code.

On September 17, 2001 (66 FR 48013), the Census Bureau published in the Federal Register a notice of proposed rulemaking and request for comment on the subject. The Census Bureau did not receive any public comments.

Program Requirements

In order to clarify and update the general rules applying to the Age Search Program, the Census Bureau is making the following four amendments to Title 15, Code of Federal Regulations (CFR), parts 50 and 80:

• Amend Section 50.1 to change the time frame from 120 days to 90 days for submitting any required additional information after completing an initial, unsuccessful search. This change is consistent with current policy on the issue.

• Amend Section 50.5 to update the note following the chart on the fee structure. The Census Bureau has not had a fee increase since 1993.

• Amend Section 80.1 to clarify the procedures for releasing census information. This change is consistent with current policy on the issue.

• Amend Section 80.1 to reflect the current address.

Regulatory Flexibility Act

The Chief Counsel for Regulation of the Department of Commerce certified to the Chief Counsel for Advocacy of the Small Business Administration that this rule would not have a significant economic impact on a substantial number of small entities. The factual basis for this certification was published with the proposed rule. No comments were received regarding the economic impact of this rule. As a result, no final regulatory flexibility analysis was prepared.

Executive Orders

This rule has been determined to be not significant for purposes of Executive Order 12866. This rule does not contain policies with federalism implications as that term is defined in Executive Order 13132.

Paperwork Reduction Act

This notice contains a collection of information requirements subject to the Paperwork Reduction Act. The Form BC-600, referenced in the amended language for section 80.1, has been cleared under OMB control number 0607-0117.

List of Subjects

15 CFR Part 50

Census data, Population census, Statistics.

15 CFR Part 80

Census data, Population census, Statistics.

For reasons set out in the preamble, 15 CFR parts 50 and 80 are amended as follows:

PART 50—SPECIAL SERVICES AND STUDIES BY THE BUREAU OF THE CENSUS

1. The authority citation for 15 CFR part 50 continues to read as follows:

Authority: Sec. 3, 49 Stat. 293, as amended; and 15 U.S.C. 192a. Interprets or applies Sec. 1, 40 Stat. 1256, as amended; Sec. 1, 49 Stat. 292; Sec. 8, 60 Stat. 1013, as amended; 15 U.S.C. 192, 189a; and 13 U.S.C. 8.

2. Amend § 50.1 by revising paragraph (d) to read as follows:

§ 50.1 General.

* * * * *

(d) If a search is unsuccessful and additional information for a further search is requested by the Census Bureau, such information must be received within 90 days of the request or the case will be considered closed. Additional information received after 90 days must be accompanied by a new fee and will be considered a new request.

3. Amend § 50.5 by revising the following note on the chart to read as follows:

§ 50.5 Fee structure for age search and citizenship information.

* * * * *

Note. —The $10.00 for each full schedule requested is in addition to the $40.00 transcript fee.

PART 80—FURNISHING PERSONAL CENSUS DATA FROM CENSUS OF POPULATION SCHEDULES

1. The authority citation for 15 CFR part 80 continues to read as follows:

Authority: Sec. 1, Pub. L. 83-1158, and 68 Stat. 1013 (13 U.S.C. 8).

2. Amend § 80.1 by revising paragraphs (c) and (g) to read as follows:

§ 80.1 General requirements.

* * * * *

(c) Requests for information from decennial census of population records (herein “Census Information”) should be made available on Form BC-600, which is available from offices at the Census Bureau in Suitland, Maryland 20233, and Jeffersonville, Indiana 47131; all county courthouses; Social Security Administration field offices; post offices; and Immigration and Naturalization Service offices. A letter request—without Form BC-600—will be accepted only if it contains the information necessary to complete a Form BC-600. No application will be processed without payment of the required fee as set forth in 15 CFR 50.5.

* * * * *

(g) Census information will not be furnished to another person unless the person to whom the information relates authorizes such release in the space provided on the Form BC-600.

Dated: July 14, 2003.
Charles Louis Kincannon,
Director, Bureau of the Census.

[FR Doc. 03-18264 Filed 7-17-03; 8:45 am]

BILLING CODE 3510-07-P